DEPARTMENT OF ENERGY

Federal Energy Regulatory Commission

[Project No. 2809-034]

KEI (Maine) Power Management (III) LLC; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: Subsequent Minor License.

b. Project No.: 2809-034.

c. Date filed: April 28, 2017.

d. Applicant: KEI (Maine) Power Management (III) LLC (KEI Power).

e. Name of Project: American Tissue Hydroelectric Project.

f. Location: On Cobbosseecontee Stream, in the Town of Gardiner, Kennebec County, Maine. There are no federal or tribal lands within the project boundary.

g. Filed Pursuant to: Federal Power Act 16 U.S.C. 791(a)-825(r).

h. Applicant Contact: Lewis C. Loon, Operations and Maintenance Manager—USA, KEI (Maine) Power Management (III) LLC, 423 Brunswick Avenue, Gardiner, ME 04345; (207) 203-3026.

i. FERC Contact: John Baummer, 202-502-6837, or john.baummer@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2809-034.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now is ready for environmental analysis.

l. The existing American Tissue Project consists of: (1) A 256-foot-long, 23-foot-high cut granite, stone and brick masonry dam that includes a 61-foot-long, 26-foot-high west abutment section with 2-foot-high permanent flashboards, a 100-foot-long, 19- to 23-foot-high spillway section with 12-inch-high flashboards and a crest elevation of 122.3 feet mean sea level (msl), and a 95-foot-long, 27-foot-high east abutment section with a 34-foot-wide, 19-foot-high intake structure that includes: (a) A 17-foot-wide, 25.5-foot- high trashrack with 2-inch clear spacing, (b) a manually-operated headgate that controls flow to the penstock, and (c) three 4.67-foot-diameter low level outlets at an elevation of about 100 feet msl for releasing minimum flows to the bypassed reach; (2) an approximately 5.5-acre, 1,000-foot-long impoundment with a normal maximum water surface elevation of 123.3 feet msl; (3) a 280-foot-long, 7-foot-diameter underground steel penstock; (4) a 37-foot-long, 34-foot-wide concrete and wooden powerhouse containing a single 1.0-megawatt turbine-generator unit; (5) a 250-foot-long, 12-kilovolt transmission line; (6) a tailrace; and (7) appurtenant facilities. KEI Power operates the project in a run-of-river mode, with an average annual generation of 5,430 megawatt-hours.

KEI Power proposes to release the following minimum flows from the dam to provide downstream passage in the bypassed reach for alewives and adult eels: 10 cubic feet per second (cfs) from January 1 to May 31; 29 cfs from June 1 to August 31; 69 cfs from September 1 to November 15; and 10 cfs from November 16 to December 31, or inflow to the impoundment, whichever is less. KEI Power also proposes to release a minimum flow of 52 cfs (or inflow, whichever is less) to the tailrace, which includes the minimum flows to the bypassed reach, to protect aquatic resources in the downstream reach. In addition, KEI Power proposes to upgrade the existing downstream fish passage facility; reduce or cease generation during nighttime hours during the downstream eel passage season if dead/injured or entrained eels are observed; and construct and operate a new upstream passage facility for American eel. KEI Power also proposes to revise the project boundary by removing most of the bypassed reach, except for a small portion of the reach necessary to accommodate the proposed upstream eel passage facility and existing downstream fish passage facilities.

m. A copy of the application is available for review at the Commission in the Public Reference Room or may be viewed on the Commission's Web site at http://www.ferc.gov using the eLibrary link. Enter the docket number excluding the last three digits in the docket number field to access the document. For assistance, contact FERC Online Support. A copy is also available for inspection and reproduction at the address in item h above.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title PROTEST, MOTION TO INTERVENE, COMMENTS, REPLY COMMENTS, RECOMMENDATIONS, TERMS AND CONDITIONS, or PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via email of new filings and issuances related to this or other pending projects. For assistance, contact FERC Online Support.

o. A license applicant must file no later than 60 days following the date of issuance of this notice: (1) A copy of the water quality certification; (2) a copy of the request for certification, including proof of the date on which the certifying agency received the request; or (3) evidence of waiver of water quality certification.

Dated: September 28, 2017.
Kimberly D. Bose,
Secretary.

[FR Doc. 2017-21288 Filed 10-3-17; 8:45 am]

BILLING CODE 6717-01-P